DEPARTMENT OF HEALTH AND HUMAN SERVICES

42 CFR Part 71

[Docket No. CDC-2012-0017]

RIN 0920-AA12

Control of Communicable Diseases: Foreign; Scope and Definitions

AGENCY: Centers for Disease Control and Prevention (HHS/CDC), Department of Health and Human Services (HHS).

ACTION: Confirmation of effective date of direct final rule.

SUMMARY: The Centers for Disease Control and Prevention (CDC) within the Department of Health and Human Services (HHS) is publishing this document to confirm the effective date of the Direct Final Rule (DFR), published on December 26, 2012 (77 FR 75939).

DATES: The Direct Final Rule published at 77 FR 75939, December, 26, 2012, becomes effective on February 25, 2013.

FOR FURTHER INFORMATION CONTACT: For questions concerning this notice: Ashley A. Marrone, JD, Centers for Disease Control and Prevention, 1600 Clifton Road, NE., Mailstop E-03, Atlanta, Georgia 30333; telephone 404-498-1600.

SUPPLEMENTARY INFORMATION: On December 26, 2012, HHS/CDC published a Direct Final Rule (DFR) amending 42 CFR part 71 to update the Scope and Definitions for that part (77 FR 75885). On the same date, HHS/CDC simultaneously published a companion Notice of Proposed Rulemaking (NPRM) that proposed identical updates to the Scope and Definitions (77 FR 75939). In both documents, HHS/CDC indicated that if we did not receive any significant adverse comments on the direct final rule by January 25, 2013, we would publish a document in the Federal Register withdrawing the NPRM and confirming the effective date of the direct final rule within 30 days after the end of the comment period. HHS/CDC received two comments to the companion NPRM. One comment pertained to food safety that raised issues unrelated to the companion NPRM and appears to have been submitted in error. The second comment was a general comment on immigration and was outside the scope of this rulemaking. HHS/CDC did not consider this comment to be a significant, adverse comment because it did not raise any issues that were relevant to the subject matter under consideration. Because HHS/CDC did not receive any relevant significant adverse comments within the specified comment period, we have published a notice to withdrawal the NPRM in this issue of the Federal Register. Therefore, consistent with the Direct Final Rule the amendments to 42 CFR part 71 become effective on February 25, 2013 (77 FR 75885).

Dated: February 13, 2013.
Kathleen Sebelius,
Secretary, Department of Health and Human Services.

[FR Doc. 2013-04136 Filed 2-22-13; 8:45 am]

BILLING CODE 4163-18-P